DEPARTMENT OF THE INTERIOR

Bureau of Indian Affairs

[222A2100DD/AAKC001030/A0A501010.999900253G; OMB Control Number 1076-NEW]

Agency Information Collection Activities; BIE-DPA Improving Secondary Transition and Post-School Outcomes

AGENCY: Bureau of Indian Education, Interior.

ACTION: Notice of information collection; request for comment.

SUMMARY: In accordance with the Paperwork Reduction Act of 1995, we, the Bureau of Indian Education (BIE), are proposing a new information collection.

DATES: Interested persons are invited to submit comments on or before March 4, 2022.

ADDRESSES: Send your comments on this information collection request (ICR) by mail to Steven Mullen, Information Collection Clearance Officer, Office of Regulatory Affairs and Collaborative Action—Indian Affairs, U.S. Department of the Interior, 1001 Indian School Road NW, Suite 229, Albuquerque, New Mexico 87104; or by email to comments@bia.gov. Please reference Office of Management and Budget (OMB) Control Number 1076-NEW in the subject line of your comments.

FOR FURTHER INFORMATION CONTACT: To request additional information about this ICR, contact Eugene Thompson by email at Eugene.thompson@bie.edu or by telephone at 202-860-5812. Individuals who are hearing or speech impaired may call the Federal Relay Service at 1-800-877-8339 for TTY assistance. You may also view the ICR at http://www.reginfo.gov/public/do/PRAMain.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Providing secondary transition services is required by the Individuals with Disabilities Education Act (IDEA; Pub. L. 108-446) which requires that schools develop a plan through the Individualized Education Program (IEP) to assist students in reaching post-graduation goals. BIE-funded high schools coordinate and implement high quality secondary transition programs for all students with disabilities, 16 years and above, in preparation for life after high school. The collected information will support the BIE Division of Performance and Accountability (DPA) in improving the efficacy of secondary transition programming, providing professional development to staff at BIE-funded high schools, identifying priorities for future technical assistance, and serving as a data measure to be included within BIE's State Systemic Improvement Plan.

Title of Collection: BIE-DPA Improving Secondary Transition and Post-School Outcomes.

OMB Control Number: 1076-NEW.

Form Number: None.

Type of Review: New.

Respondents/Affected Public: Individuals/households, BIE-funded Schools.

Total Estimated Number of Annual Respondents: 1,100.

Total Estimated Number of Annual Responses: 1.

Estimated Completion Time per Response: 10 minutes.

Total Estimated Number of Annual Burden Hours: 184.

Respondent's Obligation: Voluntary.

Frequency of Collection: Annually.

Total Estimated Annual Nonhour Burden Cost: None.

An agency may not conduct or sponsor and a person is not required to respond to a collection of information unless it displays a currently valid OMB control number.

The authority for this action is the Paperwork Reduction Act of 1995 (44 U.S.C. 3501 et seq.).

Steven Mullen,
Information Collection Clearance Officer, Office of Regulatory Affairs and Collaborative Action—Indian Affairs.

[FR Doc. 2021-28400 Filed 12-30-21; 8:45 am]

BILLING CODE 4337-15-P